DEPARTMENT OF EDUCATION

[Docket No. ED-2013-ICCD-0089]

Agency Information Collection Activities; Comment Request; A Study of Feedback in Teacher Evaluation Systems

AGENCY: Institute of Education Sciences/National Center for Education Statistics (IES), Department of Education (ED).

ACTION: Notice.

SUMMARY: In accordance with the Paperwork Reduction Act of 1995 (44 U.S.C. chapter 3501 et seq.), ED is proposing a new information collection.

DATES: Interested persons are invited to submit comments on or before September 9, 2013.

ADDRESSES: Comments submitted in response to this notice should be submitted electronically through the Federal eRulemaking Portal at http://www.regulations.gov by selecting Docket ID number ED-2013-ICCD-0089 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: A Study of Feedback in Teacher Evaluation Systems.

OMB Control Number: 1850—NEW.

Type of Review: A new information collection.

Respondents/Affected Public: Individuals or households.

Total Estimated Number of Annual Responses: 11,604.

Total Estimated Number of Annual Burden Hours: 4,213.

Abstract: This study will collect information in teacher evaluation systems in states in the Central Region. The study will collect information about (1) How teachers perceive the feedback they receive including its utility, accuracy and credibility; (2) how teachers respond to feedback, including their access to learning opportunities related to feedback received; and (3) how teacher responsiveness to feedback relates to their performance in the classroom. The study will examine data from a teacher survey and data from evaluations of teacher performance in districts that are implementing teacher evaluation systems during the 2012-14 school year, researchers will pilot the teacher survey. The study will be implemented during the 2014-15 school year. The findings will be used by state and district leaders to prioritize needs both at the state and district level for training and guidance on providing feedback as part of teacher evaluation systems, and also for informing the state and districts of additional data collection needed to further understand feedback characteristics. This study will result in a report intended for district and state leaders who are responsible for selecting, developing, and implementing teacher evaluation systems and overseeing support for teachers professional growth and effectiveness.

Dated: July 3, 2013.
Stephanie Valentine,
Acting Director, Information Collection Clearance Division, Privacy, Information and Records Management Services, Office of Management.

[FR Doc. 2013-16526 Filed 7-9-13; 8:45 am]

BILLING CODE 4000-01-P